DEPARTMENT OF JUSTICE

Antitrust Division

Notice Pursuant to the National Cooperative Research and Production Act of 1993—Alliance for Sustainable Air Transportation, Inc.

Notice documents E8-8623 appearing on page 22974 in the issue of Monday, April 28, 2008, and E8-16442 appearing on page 42366 in the issue of Monday, July 21, 2008, are hereby withdrawn and replaced by the following:

Notice is hereby given that, on July 25, 2008, pursuant to Section 6(a) of the National Cooperative Research and Production Act of 1993, 15 U.S.C. 4301 et seq. (“the Act”), Alliance for Sustainable Air Transportation, Inc. (“ASAT”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: DayJet, Boca Raton, FL; ACS International LLC, Overland Park, KS; Selex Sistemi Integrati, Inc., Overland Park, KS; University of Central Florida, Orlando, FL; Embry Riddle Aeronautical University, Daytona Beach, FL; JetSuite, Long Beach, CA; New Mexico State University, Las Cruces, NM; Unisys, Reston, VA; Mineta Transportation Institute/SJSU, San Jose, CA; SERCO, Reston, VA; Harris Corporation, Melbourne, FL; Destiny, Florida—The Pugliese Company, Delray Beach, FL; South Carolina Department of Commerce, West Columbia, SC; State of Florida, Tallahassee, FL; and City of Long Beach—Long Beach Airport, Long Beach, CA.

The general area of ASAT's planned activity is: (a) To enable and promote a rapid transition in the United States to the “Next Generation Air Transportation System” (as envisioned by the Federal Aviation Administration's “NextGen” initiative); (b) to support and facilitate the development and implementation of initial NextGen prototype systems (“Prototypes”), to foster, collaborate with and leverage the efforts of other NextGen initiatives; (c) to support and facilitate the development of NextGen open, accessible standards, specifications, analytical tools, metrics, guidelines and solutions (collectively “Specifications”); (d) to promote the adoption and use of said Prototypes and Specifications; (e) to support and facilitate the creation of testing and conformity assessment of implementations to ensure and facilitate compliance with Specifications; (f) to operate a branding program based upon distinctive trademarks to create high customers awareness of, demand for, and confidence in products, services, programs and other deliverables of ASAT; and (g) to undertake such other activities as may from time-to-time be appropriate to further the purposes discussed above.

Membership in ASAT remains open and ASAT intends to file additional written notifications disclosing all changes in membership.

Patricia A. Brink,
Deputy Director of Operations, Antitrust Division.

[FR Doc. E8-19617 Filed 8-22-08; 8:45 am]

BILLING CODE 4410-11-M